NATIONAL SCIENCE FOUNDATION

Committee on Equal Opportunities in Science and Engineering #1173; Notice of Meeting

In accordance with the Federal Advisory Committee Act (Pub. L.92-463, as amended), the National Science Foundation announces the following meeting.

Name: Committee on Equal Opportunities in Science and Engineering (CEOSE).

Dates/Time: February 25, 2013, 9:00 a.m.-5:30 p.m.; February 26, 2013, 9:00 a.m.-1:00 p.m.

Place: National Science Foundation (NSF), 4201 Wilson Boulevard, Arlington, VA 22230.

To help facilitate your entry into the building, contact the individual listed below. Your request to attend this meeting must be received by email (vfung@nsf.gov) on or prior to February 21st, 2013.

Type of Meeting: Open.

Contact Person: Dr. Bernice Anderson, Senior Advisor and CEOSE Designated Federal Officer, Office of International and Integrative Activities, National Science Foundation, 4201 Wilson Boulevard, Arlington, VA 22230.

Telephone Numbers: (703) 292-5151, 703-292-8040—banderso@nsf.gov.

Minutes: Meeting minutes and other information may be obtained from the Senior Advisor and CEOSE Designated Federal Officer at the above address or the Web site at http://www.nsf.gov/od/oia/activities/ceose/index.jsp.

Purpose of Meeting: To study data, programs, policies, and other information pertinent to the National Science Foundation and to provide advice and recommendations concerning broadening participation in science and engineering.

Agenda: Opening Statement by the CEOSE Chair

Discussions:

• Concurrence on the CEOSE Minutes of the June 19-20, 2012 Meeting

• Discussion of Key Points from the Meeting among the National Science Foundation Director and CEOSE officers

• A Conversation with Dr. Cora B. Marrett, Deputy Director of the National Science Foundation

• NSF Diversity and Inclusion Strategic Plan

• Reports of CEOSE Liaisons to NSF Advisory Committees

• Broadening Participation Efforts of NSF Centers and Major Research Instrumentation Program

• Update on Interagency Broadening Participation Activities by Federal Liaisons

• Discussion about the 2011-2012 Biennial CEOSE Report To Congress

• Discussion on CEOSE Unfinished Business and New Business

Dated: January 31, 2013.
Susanne Bolton,
Committee Management Officer.

[FR Doc. 2013-02547 Filed 2-5-13; 8:45 am]

BILLING CODE P